DEPARTMENT OF ENERGY

Federal Energy Regulatory Commission

Combined Notice of Filings #1

Take notice that the Commission received the following electric rate filings:

Docket Numbers: ER15-1375-012.

Applicants: McCoy Solar, LLC.

Description: Notice of Change in Status of McCoy Solar, LLC.

Filed Date: 5/26/21.

Accession Number: 20210526-5138.

Comments Due: 5 p.m. ET 6/16/21.

Docket Numbers: ER18-194-000.

Applicants: American Electric Power Service Corporation, Southwest Power Pool, Inc.

Description: Formal Challenge of Joint Customers' to May 26, 2021 Annual Informational Filing by American Electric Power Service Corporation.

Filed Date: 5/21/21.

Accession Number: 20210521-5275.

Comments Due: 5 p.m. ET 6/21/21.

Docket Numbers: ER20-687-003.

Applicants: Tri-State Generation and Transmission Association, Inc.

Description: Compliance filing: Fourth Compliance Filing to be effective 2/25/2020.

Filed Date: 5/26/21.

Accession Number: 20210526-5089.

Comments Due: 5 p.m. ET 6/16/21.

Docket Numbers: ER21-1438-000; ER18-2358-000; ER19-1357-000; ER20-1313-000.

Applicants: GridLiance High Plains LLC, Southwest Power Pool, Inc.

Description: Motion to Intervene and Consolidate and Formal Challenge of Xcel Energy Services Inc.

Filed Date: 4/15/21.

Accession Number: 20210415-5303.

Comments Due: 5 p.m. ET 6/25/21.

Docket Numbers: ER21-1737-001.

Applicants: Indianapolis Power & Light Company.

Description: Tariff Amendment: IPL Second Supplemental Filing to Reactive Power Tariff & Motion to be effective 6/9/2021.

Filed Date: 5/26/21.

Accession Number: 20210526-5080.

Comments Due: 5 p.m. ET 6/16/21.

Docket Numbers: ER21-2001-000.

Applicants: Shell Chemical Appalachia LLC.

Description: Baseline eTariff Filing: Market-Based Rate Application and Request for Expedited Action to be effective 5/27/2021.

Filed Date: 5/26/21.

Accession Number: 20210526-5099.

Comments Due: 5 p.m. ET 6/16/21.

Docket Numbers: ER21-2002-000.

Applicants: Duke Energy Florida, LLC.

Description: Compliance filing: DEF—Compliance Filing Revising Tariff Records to Reflect Approved Settlement to be effective 5/3/2021.

Filed Date: 5/26/21.

Accession Number: 20210526-5195.

Comments Due: 5 p.m. ET 6/16/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 26, 2021.
Debbie-Anne A. Reese,
Deputy Secretary.

[FR Doc. 2021-11579 Filed 6-1-21; 8:45 am]

BILLING CODE 6717-01-P